OFFICE OF SCIENCE AND TECHNOLOGY POLICY

Notice of Public Meeting/Workshop and Opportunity for Public Discussion

SUMMARY: This notice announces a meeting/workshop by the National Science and Technology Council's Committee on Environment and Natural Resources (CENR) Interagency Working Group on Earth Observations (IWGEO) to address the effective use of Earth observations systems to benefit humankind.

DATES: The Interagency Working Group on Earth Observations will hold a two-day workshop on Wednesday, June 16, 2004, 8:30 a.m. to 5:30 p.m. (e.d.t.); Thursday, June 17, 2004, 8:30 a.m. to 4:30 p.m.

ADDRESSES: All sessions of the workshop will be held at the United States Geological Survey (USGS), 12201 Sunrise Valley Drive, Reston, Virginia 20192.

FOR FURTHER INFORMATION CONTACT: For information regarding this notice, please contact Carla Sullivan, National Oceanic and Atmospheric Administration. Telephone: (202) 482-5921. E-mail: carla.sullivan@noaa.gov.

SUPPLEMENTARY INFORMATION: Background: During the June 16-17, 2004, public meeting and workshop, the IWGEO will provide a forum to gather inputs and viewpoints on the technical and scientific capacity of current Earth observation systems. These systems will be reviewed according to the social/economic benefits specified by the CENR Subcommittees and IWGEO.

Purpose of the Workshop: The workshop will allow representatives of the communities-of-practice to contribute information and facts to the IWGEO as it prepares a U.S. 10-Year Plan for Developing an Integrated Earth Observing System. Strategic social/economic benefit areas include:

1. Reducing Loss of Life and Property from Disasters.

2. Protecting and Monitoring Ocean Resources.

3. Understanding Climate, and Assessing, Mitigating, and

Adapting to Climate Change Impacts.

4. Supporting Sustainable Agriculture and Combating Land Degradation.

5. Understanding the Effect of Environmental Factors on Human Health and Promoting Well Being.

6. Developing the Capacity to Make Ecological Forecasts.

7. Protecting and Monitoring Water Resources.

Public Participation: Due to space constraints, interested parties will need to register for this meeting. Deadline for registration is June 7, 2004, or when capacity of facility is met. See IWGEO Web page for registration materials and additional information: http://iwgeo.ssc.nasa.gov/documents.asp, or contact the IWGEO Secretariat office: Carla Sullivan, Interagency Working Group on Earth Observations (IWGEO), National Oceanic and Atmospheric Administration (NOAA), 1401 Constitution Avenue, NW., Washington, DC 20230. Telephone: (202) 482-5921, telefax: (202) 482-5181. E-mail: carla.sullivan@noaa.gov. Subject: IWGEO June Community-of-Practice Experts meeting/workshop.

The National Science and Technology Council (NSTC) was established under Executive Order 12881. The CENR is chartered under the NSTC. The purpose of the CENR is to advise and assist the NSTC, with emphasis on those federally supported efforts that develop new knowledge related to improving our understanding of the environment and natural resources.

Ann F. Mazur,
Assistant Director for Budget and Administration.

[FR Doc. 04-12533 Filed 6-1-04; 8:45 am]

BILLING CODE 3170-W4-P